DEPARTMENT OF ENERGY

Federal Energy Regulatory Commission

Notice of Commission Staff Attendance

The Federal Energy Regulatory Commission (Commission) hereby gives notice that members of the Commission's staff may attend the following meetings related to the transmission planning activities of ISO New England Inc., New York Independent System Operator, Inc., and PJM Interconnection, L.L.C.:

Joint Inter-Regional Planning Task Force/Electric System Planning Working Group

March 6, 2012, 10:00 a.m. to 4:00 p.m., Local Time

March 21, 2012, 1:00 p.m. to 4:00 p.m., Local Time

Electric System Planning Working Group

March 12, 2012, 10:00 a.m. to 4:00 p.m., Local Time

April 5, 2012, 11:00 a.m. to 4:00 p.m., Local Time

April 25, 2012, 10:00 a.m. to 4:00 p.m., Local Time

The above-referenced meetings are open to stakeholders and will be held at:

NYISO's offices, Rensselaer, NY.

Further information may be found at www.nyiso.com.

The discussions at the meetings described above may address matters at issue in the following proceedings:

Docket No. ER08-1281, New York Independent System Operator, Inc.

For more information, contact James Eason, Office of Energy Market Regulation, Federal Energy Regulatory Commission at (202) 502-8622 or James.Eason@ferc.gov.

Dated: February 28, 2013.
Kimberly D. Bose,
Secretary.

[FR Doc. 2013-05255 Filed 3-6-13; 8:45 am]

BILLING CODE 6717-01-P